DEPARTMENT OF ENERGY

Federal Energy Regulatory Commission

Combined Notice of Filings #2

Take notice that the Commission received the following electric corporate filings:

Docket Numbers: EC17-75-000.

Applicants: Basin Creek Equity Partners L.L.C., Capital District Energy Center Cogeneration Associates, Pawtucket Power Associates Limited Partnership, Forked River Power LLC, Pittsfield Generating Company, L.P.

Description: Application Under FPA Section 203 of Basin Creek Equity Partners, L.L.C., et al.

Filed Date: 2/2/17.

Accession Number: 20170202-5132.

Comments Due: 5 p.m. ET 2/23/17.

Take notice that the Commission received the following electric rate filings:

Docket Numbers: ER16-1346-002.

Applicants: Midcontinent Independent System Operator, Inc.

Description: Compliance Filing: 2017-02-02_SA 2911 LEPA-MISO External NRIS (J373) Compliance to be effective 4/6/2016.

Filed Date: 2/2/17.

Accession Number: 20170202-5150.

Comments Due: 5 p.m. ET 2/23/17.

Docket Numbers: ER16-1817-003.

Applicants: Midcontinent Independent System Operator, Inc.

Description: Compliance Filing: 2017-02-02_Compliance filing of External NRIS pro forma to be effective 4/5/2016.

Filed Date: 2/2/17.

Accession Number: 20170202-5148.

Comments Due: 5 p.m. ET 2/23/17.

Docket Numbers: ER17-759-001.

Applicants: Appleton Coated LLC.

Description: Tariff Amendment: Amendment to Appleton Coated LLC Initial Baseline Tariff Filing to be effective 3/10/2017.

Filed Date: 2/2/17.

Accession Number: 20170202-5187.

Comments Due: 5 p.m. ET 2/13/17.

Docket Numbers: ER17-918-000.

Applicants: PJM Interconnection, L.L.C.

Description: § 205(d) Rate Filing: Original Service Agreement No. 4606; Queue No. AA1-046 to be effective 1/3/2017.

Filed Date: 2/2/17.

Accession Number: 20170202-5100.

Comments Due: 5 p.m. ET 2/23/17.

Docket Numbers: ER17-919-000.

Applicants: PJM Interconnection, L.L.C.

Description: Tariff Cancellation: Notice of Cancellation of Original Service Agreement No. 4295 to be effective 3/13/2017.

Filed Date: 2/2/17.

Accession Number: 20170202-5101.

Comments Due: 5 p.m. ET 2/23/17.

Docket Numbers: ER17-920-000.

Applicants: Duke Energy Florida, LLC.

Description: Compliance Filing: Unfiled GIAs 2nd Compliance Filing to be effective 9/27/2016.

Filed Date: 2/2/17.

Accession Number: 20170202-5168.

Comments Due: 5 p.m. ET 2/23/17.

Docket Numbers: ER17-921-000.

Applicants: PJM Interconnection, L.L.C.

Description: § 205(d) Rate Filing: Amendment to WMPA SA No. 4156; Queue No. Z2-102 to be effective 5/6/2015.

Filed Date: 2/2/17.

Accession Number: 20170202-5183.

Comments Due: 5 p.m. ET 2/23/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2017.
Nathaniel J. Davis, Sr.,
Deputy Secretary.

[FR Doc. 2017-02533 Filed 2-7-17; 8:45 am]

BILLING CODE 6717-01-P